DEPARTMENT OF THE TREASURY

Bureau of Alcohol, Tobacco and Firearms

27 CFR Part 275

[T.D. ATF-422c]

RIN 1512-AC07

Implementation of Public Law 105-33, Section 9302, Requiring the Qualification of Tobacco Product Importers (98R-316P) and Miscellaneous Technical Amendments: Correction

ACTION: Correcting amendment.

SUMMARY: This document contains a correcting amendment to the temporary regulations, which were published in the Federal Register on December 22, 1999, (64 FR 71947). The temporary regulations relate to implementing certain provisions of the Balanced Budget Act of 1997 that set forth requirements that, beginning January 1, 2000, importers of tobacco products must qualify for a permit to conduct that activity.

DATES: This rule is effective October 24, 2000.

FOR FURTHER INFORMATION CONTACT: Robert Ruhf, Regulations Division, Bureau of Alcohol, Tobacco and Firearms, 650 Massachusetts Avenue NW., Washington, DC 20226 (202-927-8210).

SUPPLEMENTARY INFORMATION:

Background

The temporary regulations that are the subject of this correction implemented some of the provisions of the Balanced Budget Act of 1997, (Pub. L. 105-33) and made clarifying changes to part 275. The temporary regulations were published in the Federal Register on December 22, 1999, (T.D. ATF-422, 64 FR 71947), and two corrections to the temporary rules were published on March 21, 2000, (T.D. ATF-422a, 65 FR 15058) and on July 24, 2000, (T.D. ATF-422b, 65 FR 45523). The temporary regulations require that, beginning January 1, 2000, importers of tobacco products must qualify for a permit to conduct that activity.

Need for Correction

As published, the temporary regulations contain an omission in the meaning of term “appropriate ATF officer.” The meaning of this term should also refer to ATF O 1130.15, Delegation Order—Delegation of Certain of the Director's Authorities in 27 CFR parts 270, 275 and 296. This document corrects this omission.

List of Subjects in 27 CFR Part 275

Administrative practice and procedure, Authority delegations, Cigarette papers and tubes, Cigars and cigarettes, Electronic funds transfers, Claims, Customs duties and inspections, Excise taxes, Imports, Labeling, Packaging and containers, Penalties, Reporting and record keeping requirements, Seizures and forfeitures, Surety bonds, U.S. Possessions, Warehouses.

Accordingly, 27 CFR part 275 is corrected by making the following correcting amendments:

PART 275—IMPORTATION OF TOBACCO PRODUCTS AND CIGARETTE PAPERS AND TUBES

1. The authority citation for part 275 continues to read as follows:

Authority: 18 U.S.C. 2342; 26 U.S.C. 5701, 5703, 5704, 5705, 5708, 5712, 5713, 5721, 5722, 5723, 5741, 5754, 5761, 5762, 5763, 6301, 6302, 6313, 6404, 7101, 7212, 7342, 7606, 7652, 7805; 31 U.S.C. 9301, 9303, 9304, 9306.

§ 275.11 [Corrected]

2. Remove the period at the end of the definition of the term “appropriate ATF officer” in § 275.11 and add the words “and ATF Order 1130.15, Delegation Order—Delegation of Certain of the Director's Authorities in 27 CFR Parts 270, 275 and 296.”

Bradley A. Buckles,
Director.

[FR Doc. 00-27220 Filed 10-23-00; 8:45 am]

BILLING CODE 4810-31-P